NATIONAL AERONAUTICS AND SPACE ADMINISTRATION

[Notice (00-133)]

NASA Advisory Council, Minority Business Resource Advisory Committee; Meeting

AGENCY: National Aeronautics and Space Administration.

ACTION: Notice of Meeting.

SUMMARY: In accordance with the Federal Advisory Committee Act, Public Law 92-463, as amended, the National Aeronautics and Space Administration announce a forthcoming meeting of the NASA Advisory Council, Minority Business Resource Advisory Committee.

DATES: Tuesday, December 5, 2000, 9:00 a.m. to 4:00 p.m., and Wednesday, December 6, 2000, 9:00 a.m. to 12:00 noon.

ADDRESSES: NASA Headquarters, 300 E Street, SW, Washington, DC 20546-0001. Room MIC-7.

FOR FURTHER INFORMATION CONTACT: Mr. Ralph C. Thomas III, Code K, National Aeronautics and Space Administration, Room 9K70, 300 E Street, SW, Washington, DC 20546-0001, (202) 358-2088.

SUPPLEMENTARY INFORMATION: The meeting will be open to the public up to the seating capacity of the room. The agenda for the meeting is as follows:

—Overview of NASA

—Small Disadvantaged Business Participation in Major NASA Contracts

—Report on Mentor-Protégé Program

—Action Items

—NASA Small Disadvantaged Business (SDB) Program Update

—Report of Chair

—Public Comment

—Report from MBRAC Sub Panels

—Status of Best Practices for Teaming Agreements

—Report on SDB Participation on Agency-Wide Contract(s)

It is imperative that the meeting be held on these dates to accommodate the scheduling priorities of the key participants. Visitors will be requested to sign a visitor's register.

Dated: October 31, 2000.
Beth M. McCormick,
Advisory Committee Management Officer, National Aeronautics and Space Administration.

[FR Doc. 00-28582 Filed 11-7-00; 8:45 am]

BILLING CODE 7510-01-U